FEDERAL MARITIME COMMISSION

Ocean Transportation Intermediary License Terminations

The Federal Maritime Commission hereby gives notice that the following ocean transportation intermediary licenses have been terminated pursuant to section 19 of the Shipping Act of 1984 (46 U.S.C. app. 1718) and the regulations of the Commission pertaining to the licensing of Ocean Transportation Intermediaries, effective on the corresponding dates shown below:

License Number: 16388N.

Name: Airgate Int'l (SFO) Corp.

Address: 484 Grandview Drive, South San Francisco, CA 94080.

Date Revoked: April 15, 2000.

Reason: Failed to maintain a valid bond.

License Number: 3771.

Name: Alex G. Weimer d/b/a AGW International Export Service and Customs Broker.

Address: P.O. Box 1555, 1085 So. Highway 80, Benson, AR 85602.

Date Revoked: April 11, 2000.

Reason: Failed to maintain a valid bond.

License Number: 15393N.

Name: AMCO Cargo Systems, Inc.

Address: 1210 Koma Drive, Warehouse B, Compton, CA 90220.

Date Revoked: April 12, 2000.

Reason: Failed to maintain a valid bond.

License Number: 3726NF.

Name: American Exhibition Services International, Inc.

Address: 1699 Wall Street, Suite 601, Mt. Prospect, IL 60056.

Date Revoked: July 6, 2000.

Reason: Failed to maintain a valid bond.

License Number: 3969.

Name: Blue Sky Blue Sea, Inc. d/b/a International Shipping Company.

Address: Cargo Building 68, JFK Int'l Airport, Jamaica, NY 11430.

Date Revoked: July 8, 2000.

Reason: Failed to maintain a valid bond.

License Number: 15324N.

Name: Cargo Management Consultant, USA Inc.

Address: 154-09 146th Avenue, Jamaica, NY 11434.

Date Terminated: May 18, 2000.

Reason: Surrendered license voluntarily.

License Number: 14124N.

Name: Cargo Saver, Inc.

Address: 16602 South Broadway Street, Gardena, CA 90248.

Date Revoked: June 1, 2000.

Reason: Failed to maintain a valid bond.

License Number: 2489NF.

Name: Fuji Logitech America, Inc.

Address: 20434 Susana Road, Long Beach, CA 90810.

Date Terminated: May 8, 2000.

Reason: Surrendered license voluntarily.

License Number: 3375.

Name: General Air Freight Consolidators, Inc. d/b/a General Ocean Freight Container Line.

Address: 1031 W. Manchester Blvd., Unit A, Inglewood, CA 90301.

Date Revoked: June 7, 2000.

Reason: Failed to maintain a valid bond.

License Number: 8850N.

Name: Graybar Navigation, Inc.

Address: Graybar Building, 420 Lexington Ave., New York, NY 10170.

Date Revoked: June 11, 2000.

Reason: Failed to maintain a valid bond.

License Number: 3206.

Name: Informa International, Ltd.

Address: 221 Woodbine Avenue, Narberth, PA 19072-0276.

Date Revoked: June 15, 2000.

Reason: Failed to maintain a valid bond.

License Number: 15468N.

Name: Interatlantic Cargo Group Corp.

Address: 6952 NW 51 Street, Miami, FL 33166.

Date Revoked: June 1, 2000.

Reason: Failed to maintain a valid bond.

License Number: 1348NF.

Name: International Cargo Group, Inc. d/b/a ASG USA.

Address: 301 Edgewater Place, Wakefield, MA 01880.

Date Revoked: June 30, 2000.

Reason: Failed to maintain a valid bond.

License Number: 13581N.

Name: International Freight Systems (Of Oregon), Inc.

Address: 604 NE 20th Avenue, Portland, OR 97232.

Date Revoked: May 25, 2000.

Reason: Failed to maintain a valid bond.

License Number: 13101N.

Name: International Moving Service, Ltd. d/b/a Tradewinds International Shipping Co.

Address: 1500 S.W. First Avenue, Suite 850, Portland, OR 97201.

Date Revoked: June 3, 2000.

Reason: Failed to maintain a valid bond.

License Number: 15076N.

Name: Jeff Chang d/b/a Kana Logestics.

Address: 20780 Leapwood Avenue, Carson, CA 90746.

Date Revoked: April 21, 2000.

Reason: Failed to maintain a valid bond.

License Number: 3907NF.

Name: Logistics Services Incorporated.

Address: 1612 NW 84th Avenue, Miami, FL 33126.

Date Revoked: April 5, 2000.

Reason: Failed to maintain a valid bond.

License Number: 2477F.

Name: M D R Enterprises, Inc.

Address: 8031 West Center Road, Suite 206, Omaha, NE 68124.

Date Revoked: June 10, 2000.

Reason: Failed to maintain a valid bond.

License Number: 4090.

Name: Mundus Shipping, Inc.

Address: 127 Schenck Blvd., Floral Park, NY 11001.

Date Revoked: July 5, 2000.

Reason: Failed to maintain a valid bond.

License Number: 16146NF.

Name: Murphy International Corporation d/b/a Murphy Overseas Corporation d/b/a International Transport & Logistics Corporation.

Address: 249 E. Ocean Blvd., #400, Long Beach, CA 90802.

Date Terminated: March 16, 2000.

Reason: Surrendered license voluntarily.

License Number: 10380N.

Name: Pana-York Maritima, Ltd.

Address: 411 A North Wood Avenue, Suite #5, Linden, NJ 07036.

Date Terminated: June 1, 2000.

Reason: Failed to maintain a surety bond.

License Number: 3238.

Name: Rewico America Inc.

Address: 420 Lexington Avenue, Suite 1630, New York, NY 10170.

Date Revoked: June 11, 2000.

Reason: Failed to maintain a valid bond.

License Number: 16367N.

Name: Rosario Antoniello d/b/a Paul Shipping Company.

Address: 45 John Street, New York, NY 10038.

Date Revoked: March 22, 2000.

Reason: Failed to maintain a valid bond.

License Number: 4279N.

Name: SR International Logistics, LLC d/b/a High Country Maritime.

Address: 5310 Ward Road, Suite G-05, Arvada, CO 80002.

Date Revoked: July 7, 2000.

Reason: Failed to maintain a valid bond.

License Number: 14138N.

Name: Southern Overseas Express Line, Inc.

Address: 330 Shipyard Blvd., Wilmington, NC 28412.

Date Revoked: May 28, 2000.

Reason: Failed to maintain a valid bond.

License Number: 2810F.

Name: Travel All Over The World, Inc. d/b/a Shipping All Over The World and American Egyptian Shipping Company.

Address: 405 North Eola Road, Aurora, IL 60504.

Date Revoked: May 25, 2000.

Reason: Failed to maintain a valid bond.

License Number: 9735N.

Name: Vanderhelm International, Inc.

Address: 1851 Executive Center Drive, S-114, Jacksonville, FL 32207.

Date Revoked: June 9, 2000.

Reason: Failed to maintain a valid bond.

License Number: 14992N.

Name: Venex Transportation Logistics, Inc.

Address: 8282 N.W. 66th Street, Miami, FL 33166.

Date Revoked: March 4, 2000.

Reason: Failed to maintain a valid bond.

License Number: 14415N.

Name: Won Sik Kang d/b/a CMS Shipping Co.

Address: 11099 S. La Cienega Blvd., Suite 246, Los Angeles, CA 90045.

Date Revoked: April 26, 2000.

Reason: Failed to maintain a valid bond.

License Number: 4158F.

Name: Winston International, Incorporated.

Address: 23131 Colony Park Drive, Carson, CA 90745-5566.

Date Terminated: May 22, 2000.

Reason: Surrendered license voluntarily.

Sandra L. Kusumoto,
Director, Bureau of Consumer Complaints and Licensing.

[FR Doc. 00-19583 Filed 8-1-00; 8:45 am]

BILLING CODE 6730-01-P